PEACE CORPS

Information Collection Request; Submission for OMB Review

AGENCY: Peace Corps.

ACTION: 60-Day notice and request for comments.

SUMMARY: The Peace Corps will be submitting the following information collection request to the Office of Management and Budget (OMB) for review and approval. The purpose of this notice is to allow 60 days for public comment in the Federal Register preceding submission to OMB. We are conducting this process in accordance with the Paperwork Reduction Act of 1995.

DATES: Submit comments on or before May 28, 2024.

ADDRESSES: Comments should be addressed to James Olin, FOIA/Privacy Act Officer. James Olin can be contacted by telephone at 202-692-2507 or email at pcfr@peacecorps.gov. Email comments must be made in text and not in attachments.

FOR FURTHER INFORMATION CONTACT: James Olin at Peace Corps address above or by phone at (202) 692-2507.

SUPPLEMENTARY INFORMATION:

Title: Campus Ambassadors Onboarding form.

OMB Control Number: 0420-0566.

Type of Request: Re-approve.

Affected Public: Individuals.

Respondents Obligation to Reply: Voluntary.

Burden to the Public:

Estimated burden (hours) of the collection of information:

a. Number of respondents: 1,000.

b. Frequency of response: one time.

c. Completion time: 5 minutes.

d. Annual burden hours: 83 hours.

General Description of Collection: The information will be used by the Office of University Programs to collect key information including name, mailing address, school and t-shirt sizes to send out a promotional kit and resources to students that have accepted our offer to become a campus ambassador.

Request for Comment: Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC, on March 22, 2024.
James Olin,
FOIA/Privacy Act Officer.

[FR Doc. 2024-06481 Filed 3-26-24; 8:45 am]

BILLING CODE 6051-01-P